DEPARTMENT OF COMMERCE

International Trade Administration

[A-570-890]

Wooden Bedroom Furniture from the People's Republic of China: Extension of Time Limits for the Final Results of the Antidumping Duty Administrative Review and New Shipper Reviews

AGENCY: Import Administration, International Trade Administration, Department of Commerce.

EFFECTIVE DATE: June 12, 2007.

FOR FURTHER INFORMATION CONTACT: Gene Degnan, AD/CVD Operations, Office 8, Import Administration, International Trade Administration, U.S. Department of Commerce, 14th Street and Constitution Avenue, NW, Washington, DC 20230; telephone: (202) 482-0414.

SUPPLEMENTARY INFORMATION:

Background

The Department of Commerce (“the Department”) published an antidumping duty order on wooden bedroom furniture (“WBF”) from the People's Republic of China (“PRC”) on January 4, 2005. See Notice of Amended Final Determination of Sales at Less Than Fair Value and Antidumping Duty Order: Wooden Bedroom Furniture From the People's Republic of China, 70 FR 329 (January 4, 2005). On March 7, 2006, the Department published in the Federal Register a notice of the initiation of the antidumping duty administrative review of WBF from the PRC and new shipper reviews for the period June 24, 2004, through December 31, 2005. See Initiation of Administrative Review of Antidumping Duty Order on Wooden Bedroom Furniture from the People's Republic of China, 71 FR 11394 (March 7, 2006) and Wooden Bedroom Furniture from the People's Republic of China: Initiation of New Shipper Reviews, 71 FR 11404 (March 7, 2006) (“Initiation of Second Annual New Shipper Reviews”). On August 24, 2006, the Department aligned the deadlines and the time limits of the new shipper reviews of WBF with the 2004-2005 administrative review of WBF. See Memorandum to the File from Lilit Astvatsatrian, Case Analyst, through Wendy Frankel, Office Director, dated August 24, 2006. On February 9, 2007, the Department published in the Federal Register the preliminary results of the first administrative review and the new shipper reviews. See Wooden Bedroom Furniture from the People's Republic of China: Preliminary Results of Antidumping Duty Administrative Review, Preliminary Results of New Shipper Reviews and Notice of Partial Rescission, 72 FR 6201 (February 9, 2007). The final results of review are currently due no later than June 9, 2007.

Extension of Time Limit of Final Results

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days. Completion of the final results of the administrative review within the 120-day period is not practicable because the Department conducted verification in the administrative review after publication of the preliminary results, and, therefore, needs additional time to complete post-preliminary results verification reports, invite and analyze comments by interested parties on the preliminary results and verification reports, and analyze information gathered at verification.

Because it is not practicable to complete this review within the time specified under the Act, we are extending the time period for issuing the final results of the administrative and new shipper reviews to 180 days, until August 8, 2007, in accordance with section 751(a)(3)(A) of the Act. This notice is published pursuant to sections 751(a) and 777(i) of the Act.

Dated: June 5, 2007.
Stephen J. Claeys,
Deputy Assistant Secretary for Import Administration.

[FR Doc. E7-11318 Filed 6-11-07; 8:45 am]

BILLING CODE 3510-DS-S